COMMISSION ON CIVIL RIGHTS

Notice of Public Meeting of the Washington Advisory Committee Advisory Committee; Cancellation

AGENCY: Commission on Civil Rights.

ACTION: Notice; cancellation of virtual business meeting.

The Commission on Civil Rights published a notice in the Federal Register concerning a virtual business meeting of the Washington Advisory Committee. The meeting scheduled for Tuesday, December 5, 2023, at 11 a.m. Pacific time is cancelled. The notice is in the Federal Register of Monday, August 14, 2023, in FR Doc. 2023-17298 in the first, second, and third columns of page 55008.

FOR FURTHER INFORMATION CONTACT: Brooke Peery, bpeery@usccr.gov, (202) 701-1376.

Dated: November 17, 2023.
David Mussatt,
Supervisory Chief, Regional Programs Unit.

[FR Doc. 2023-25842 Filed 11-21-23; 8:45 am]

BILLING CODE P